COMMISSION ON CIVIL RIGHTS

Notice of Public Meeting of the Arizona Advisory Committee

AGENCY: U.S. Commission on Civil Rights.

ACTION: Announcement of virtual briefing.

SUMMARY: Notice is hereby given, pursuant to the provisions of the rules and regulations of the U.S. Commission on Civil Rights (Commission) and the Federal Advisory Committee Act (FACA) that a briefing of the Arizona Advisory Committee (Committee) to the Commission will convene via ZoomGov on Tuesday, May 23, 2023, from 12:00 p.m.-3:00 p.m. Arizona Time. The purpose of the briefing is to collect testimony from invited panelists regarding racial and/or ethnic disparities in pediatric healthcare in Arizona.

DATES: The briefing will take place on:

• Friday, May 23, 2023, from 12:00 p.m.-3:00 p.m. Arizona Time

ADDRESSES:

Access Information:

Link to Join (Audio/Visual):

https://www.zoomgov.com/j/1612316896?pwd=bkNaOHZIdzhxZDhXSDJNSk5VZEJtdz09.

Telephone (Audio Only) Dial: 1-833-435-1820 (US Toll-free); Meeting ID: 161 231 6896#.

FOR FURTHER INFORMATION CONTACT: Kayla Fajota, DFO, at kfajota@usccr.gov or (434) 515-2395.

SUPPLEMENTARY INFORMATION: Committee meetings are available to the public through the videoconference link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any incurred charges. Closed captioning will be available for individuals who are deaf, hard of hearing, or who have certain cognitive or learning impairments. To request additional accommodations, please email kfajota@usccr.gov at least 10 business days prior to the meeting.

Members of the public are entitled to make comments during the open period at the end of the meeting. Members of the public may also submit written comments; the comments must be received in the Regional Programs Unit within 30 days following the meeting. Written comments may be mailed to the Western Regional Office, U.S. Commission on Civil Rights, 300 North Los Angeles Street, Suite 2010, Los Angeles, CA 90012 or email Kayla Fajota (DFO) at kfajota@usccr.gov.

Records and documents discussed during the meeting will be available for public viewing prior to and after the meetings at https://www.facadatabase.gov/FACA/FACAPublicViewCommitteeDetails?id=a10t0000001gzl2AAA.

Please click on the “Committee Meetings” tab. Records generated from these meetings may also be inspected and reproduced at the Regional Programs Unit, as they become available, both before and after the meetings. Persons interested in the work of this Committee are directed to the Commission's website, https://www.usccr.gov, or may contact the Regional Programs Unit at the above email or street address.

Agenda

I. Welcome, Roll Call, and Opening Remarks

II. Panelist Presentations

III. Committee Q & A

IV. Public Comment

V. Adjournment

Dated: April 27, 2023.
David Mussatt,
Supervisory Chief, Regional Programs Unit.

[FR Doc. 2023-09310 Filed 5-2-23; 8:45 am]

BILLING CODE P